DEPARTMENT OF THE INTERIOR

Bureau of Land Management

[L51010000-FX0000-LVRWA09A2590-LLAZC02000; AZA34666]

Notice of Intent To Prepare a Possible Land Use Plan Amendment in Conjunction With the Proposed Quartzsite Solar Energy Project, La Paz County, AZ

AGENCY: Bureau of Land Management, Interior.

ACTION: Notice of intent.

SUMMARY: In compliance with the National Environmental Policy Act of 1969, as amended (NEPA), and the Federal Land Policy and Management Act of 1976, as amended, the Bureau of Land Management (BLM), Yuma Field Office, Yuma, Arizona, proposes to amend the Yuma Resource Management Plan (RMP), in conjunction with the Quartzsite Solar Energy Project (QSEP), and by this notice is announcing the beginning of the scoping process to solicit public comments and identify issues associated with the proposed RMP amendment.

DATES: This notice initiates the public scoping process for the proposed amendment. To be fully considered in the planning process, comments must be submitted in writing by April 29, 2011. The date(s) and location(s) of all scoping meetings will be announced at least 15 days in advance of the meeting(s) through local media and the following BLM Web site at: http://www.blm.gov/az/st/en.html. The BLM will provide additional opportunities for public participation upon publication of the draft planning document.

ADDRESSES: You may submit comments related to the plan amendment proposal by any of the following methods:

• Web site: http://www.blm.gov/az/st/en.html.

• E-mail: Quartzsite_Solar@blm.gov.

• Fax: 928-317-3250.

• Mail: Quartzsite Solar Energy Project, BLM, Yuma Field Office, Attention: Eddie Arreola, Supervisory Project Manager, 2555 East Gila Ridge Road, Yuma, Arizona 85365.

FOR FURTHER INFORMATION CONTACT: Eddie Arreola, Supervisory Project Manager, telephone 602-417-9505; e-mail eddie_arreola@blm.gov; address One North Central Avenue, Suite 800, Phoenix, Arizona 85004.

SUPPLEMENTARY INFORMATION: Quartzsite Solar Energy LLC (QSE), a wholly owned subsidiary of Solar Reserve LLC, has requested a right-of-way authorization from the BLM to construct, operate, and maintain a 100-megawatt solar energy generation facility on 1,450 acres using concentrated solar power tower technology and has also applied for the approval of the Western Area Power Administration (WAPA) to interconnect the facility's electric grid system into WAPA's existing 230 kilovolt transmission line paralleling State Route 95. QSE's proposed project is approximately 10 miles north of the Town of Quartzsite and approximately 1 mile to the east of State Route 95. WAPA, as the lead agency under NEPA for the project, published a Notice of Intent to prepare an environmental impact statement (EIS) for the proposed project in the Federal Register on January 14, 2010 (75 FR 2133). Public scoping meetings on the QSE project EIS were held on January 26, 2010, in Yuma, Arizona; January 27, 2010, in Parker, Arizona; and January 28, 2010, in Quartzsite, Arizona. The BLM is a cooperating agency for this EIS.

Preliminary environmental analysis by the BLM has determined that QSE's proposed project tower is in non-conformance with the Yuma RMP's Visual Resources Management (VRM) Class III management objectives. Authorization of the solar facility may therefore require an amendment to the Yuma RMP.

By this notice, the BLM is complying with requirements in 43 CFR 1610.2(c) to notify the public of potential amendments to land use plans, predicated on the findings of the NEPA analysis. The BLM will coordinate the RMP commenting process to satisfy the public involvement process under Section 106 of the National Historic Preservation Act (16 U.S.C. 470(f)), as provided for in 36 CFR 800.2(d)(3). Native American tribal consultations will be conducted in accordance with policy, and tribal concerns, including impacts on Indian trust assets, will be given due consideration.

The purpose of this public scoping process is to determine relevant issues that will influence the scope of the environmental analysis as it relates to the potential RMP amendment, including alternatives, and guide the process for developing the relevant NEPA analyses. At present, the BLM has identified the following preliminary issues, among others: Air quality, geologic resources, soils, water resources, threatened and endangered species, wildlife habitats, cultural and historical resources, paleontological resources, visual resources, land use, recreational resources, and public health and safety. Federal, State, and local agencies, along with other stakeholders that may be interested or affected by the BLM's decision on this project, are invited to participate in the scoping process and, if eligible, may request or be requested by the BLM to participate as a cooperating agency for the development of the RMP amendment.

The NEPA document analyzing the RMP amendment will consider the impacts of the proposed action, alternatives, and the no action alternative. The BLM, as a cooperating agency for the project EIS, will work to coordinate the analysis associated with the RMP amendment with the project EIS. The public is invited to submit comments on the possible amendment of the Yuma RMP to address VRM issues. Previously submitted comments, issues and concerns related to QSE's proposed solar facility do not need to be resubmitted. Public comments will aid the BLM in identifying planning alternatives and mitigating measures and will help assure all relevant issues associated with the proposed RMP amendment are considered in the NEPA document for the RMP. This document may be the on-going project EIS or a stand-alone NEPA document, as appropriate.

Please note that public comments and information submitted—including names, street addresses, and e-mail addresses of persons who submit comments—will be available for public review and disclosure at the above address during regular business hours (8 a.m. to 4 p.m.), Monday through Friday, except holidays.

Before including your address, phone number, e-mail address, or other personal identifying information in your comment, you should be aware that your entire comment—including your personal identifying information—may be made public at any time. While you may request that your personal identifying information be withheld from public review, we cannot guarantee that we will be able to withhold such information.

Authority: 43 CFR 1610.2; 43 CFR 2800; 40 CFR 1501.7.

Raymond Suazo,
Arizona Associate State Director.

[FR Doc. 2011-7413 Filed 3-29-11; 8:45 am]

BILLING CODE 4310-32-P